DEPARTMENT OF ENERGY

Federal Energy Regulatory Commission

[Project No. 289-013]

Louisville Gas and Electric Company; Notice of Site Visit

September 29, 2004.

On November 4, 2004, the Office of Energy Projects staff will participate in an on-site visit of the Ohio Falls Hydroelectric Project located on the Ohio River in Jefferson County, Kentucky. This project is located at the U.S. Army Corp of Engineer's McAlpine Locks and Dam Project. The site visit will begin at 9 a.m. (EST) and last approximately four hours. The site visit will begin at Louisville Gas and Electric's office located at 220 West Main Street, Louisville, Kentucky (corner of 3rd and Main Street). The purpose of the site visit is for Louisville Gas and Electric to show the project features and explain the proposal for modernizing and rehabilitating the hydroelectric facility. The proposal is included in the application for a new major license, filed on October 7, 2003.

All interested parties and individuals are welcome to attend the site visit. Due to public safety and security concerns all interested parties must contact Mr. Roger Hickman, Regulatory Affairs, Louisville Gas and Electric, 220 West Main Street, Louisville, Kentucky 40202, (502) 627-4031, e-mail roger.hickman@lgeenergy.com. by October 27, 2004, to arrange to attend. Please provide Mr. Hickman your name and the entity you represent.

Any questions concerning this notice should be directed to John Costello at (202) 502-6119, e-mail john.costello@ferc.gov.

Magalie R. Salas,
Secretary.

[FR Doc. E4-2514 Filed 10-5-04; 8:45am]

BILLING CODE 6717-01-P